DEPARTMENT OF ENERGY

Federal Energy Regulatory Commission

[Project No. 3273-024]

Chittenden Falls Hydropower, Inc.; Notice of Waiver Period for Water Quality Certification Application

On March 24, 2021, Chittenden Falls Hydropower, Inc. notified the Federal Energy Regulatory Commission that on March 8, 2021, it submitted a pre-filing meeting request, pursuant to 40 CFR 121.4, together with an application for a Clean Water Act section 401(a)(1) water quality certification to the New York State Department of Environmental Conservation (New York DEC), in conjunction with the above captioned project. Pursuant to 40 CFR 121.6, we hereby notify New York DEC of the following:

Date of Receipt of the Certification Request: April 7, 2021.¹

¹ 40 CFR 121.4(a) requires that a project proponent request a meeting with the state certifying authority to discuss the project at least 30 days prior to submitting a certification request. Here, Chittenden Falls Hydropower, Inc. submitted its request for a pre-filing meeting on March 8, 2021, which was the same date it submitted its section 401 application to New York DEC. To account for the 30-day period associated with the pre-filing meeting request and to render the certification request compliant with 40 CFR 121.5(b), the date of receipt of the certification request is 30 days after the pre-filing meeting was requested, i.e., April 7, 2021.

Reasonable Period of Time to Act on the Certification Request: One year.

Date Waiver Occurs for Failure to Act: April 7, 2022.

If New York DEC fails or refuses to act on the water quality certification request by the above waiver date, then the agency certifying authority is deemed waived pursuant to section 401(a)(1) of the Clean Water Act, 33 U.S.C. 1341(a)(1).

Dated: April 8, 2021.
Nathaniel J. Davis, Sr.,
Deputy Secretary.

[FR Doc. 2021-07684 Filed 4-14-21; 8:45 am]

BILLING CODE 6717-01-P